NUCLEAR REGULATORY COMMISSION

[NUREG/CR-6966]

Tsunami Hazard Assessment at Nuclear Power Plant Sites in the United States of America; Availability of Draft Report for Comment

AGENCY: Nuclear Regulatory Commission (NRC).

ACTION: Solicitation of public comment.

SUMMARY: The NRC is soliciting public comment on its draft report titled “Tsunami Hazard Assessment at Nuclear Power Plant Sites in the United States of America,” (NUREG/CR-6966) (ADAMS Accession No. ML082810348). This draft report describes the tsunami phenomenon with the focus on its relevance for hazard assessment at nuclear power plant sites. Any interested party may submit comments on this report for consideration by the NRC staff. Comments may be accompanied by additional relevant information or supporting data.

DATES: Comments must be filed on or before close of business on December 5, 2008. Comments received after this date will be considered, if it is practical to do so, but the Commission is able to ensure consideration only for comments received on or before this date.

ADDRESSES: Comments may be submitted to: Chief, Rulemaking, Directives and Editing Branch, Office of Administration, U.S. Nuclear Regulatory Commission, Washington, DC 20555-0001. Comments should be delivered to: 11545 Rockville Pike, Rockville, Maryland, Room T-6D59, between 7:30 a.m. and 4:15 p.m. on Federal workdays. Persons may also provide comments via e-mail at Goutam.Bagchi@nrc.gov. The NRC maintains an Agencywide Documents Access and Management System (ADAMS), which provides text and image files of NRC's public documents. These documents may be accessed through the NRC's Public Electronic Reading Room on the Internet at http://www.nrc.gov/reading-rm/adams.html. Persons who do not have access to ADAMS or who encounter problems in accessing the documents located in ADAMS should contact the NRC Public Document Room reference staff at 1-800-397-4209, 301-415-4737, or by e-mail at pdr@nrc.gov.

FOR FURTHER INFORMATION CONTACT: Mr. Nilesh Chokshi, Deputy Director, Division of Site and Environmental Reviews, Office of the New Reactors, U.S. Nuclear Regulatory Commission, Washington, DC 20555-0001; telephone 301-415-1634 or e-mail at Nilesh.Chokshi@nrc.gov.

SUPPLEMENTARY INFORMATION: The agency posts its reports in the agency external web at the index pages for document collections http://www.nrc.gov/reading-rm/doc-collections/nuregs/contract/cr6966.

The NRC staff is issuing this notice to solicit public comments on the draft report NUREG/CR-6966. After the NRC staff considers any public comments, it will make a determination for suitable incorporation in the final report.

Dated at Rockville, Maryland, the 31st day of October 2008.
For the Nuclear Regulatory Commission.
William D. Reckley,
Chief, Rulemaking, Guidance and Advanced Reactors Branch, Division of New Reactor Licensing, Office of New Reactors.

[FR Doc. E8-26707 Filed 11-7-08; 8:45 am]

BILLING CODE 7590-01-P